DEPARTMENT OF HEALTH AND HUMAN SERVICES

Centers for Disease Control and Prevention

Disease, Disability, and Injury Prevention and Control Special Emphasis Panel (SEP): Funding Opportunity Announcement (FOA), Initial Review

The meeting announced below concerns The Institutional Collaboration between the Institute Pasteur of Madagascar and the Centers for Disease Control and Prevention on Malaria and Vector-Borne Diseases Funding Opportunity Announcement (FOA) GH11-003, and Research Activities in Support of Malaria Prevention and Control in the Republic of Uganda as Part of the President's Malaria Initiative, FOA GH11-004, initial review.

In accordance with Section 10(a)(2) of the Federal Advisory Committee Act (Pub. L. 92-463), the Centers for Disease Control and Prevention (CDC) announces the aforementioned meeting:

Time and Date: 12 p.m.-3 p.m., May 19, 2011 (Closed).

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Institutional Collaboration between the Institute Pasteur of Madagascar and the Centers for Disease Control and Prevention on Malaria and Vector-Borne Diseases, FOA GH11-003, and Research Activities in Support of Malaria Prevention and Control in the Republic of Uganda as Part of the President's Malaria Initiative, FOA GH11-004, initial review.”

Contact Person for More Information: Sheree Marshall-Williams, PhD, Scientific Review Officer, CDC, 1600 Clifton Road, NE., Mailstop D72, Atlanta, Georgia 30333, Telephone: (404) 639-7742.

The Director, Management Analysis and Services Office, has been delegated the authority to sign Federal Register notices pertaining to announcements of meetings and other committee management activities, for both the Centers for Disease Control and Prevention and the Agency for Toxic Substances and Disease Registry.

Dated: March 4, 2011.
Elaine L. Baker,
Director, Management Analysis and Services Office, Centers for Disease Control and Prevention.

[FR Doc. 2011-5632 Filed 3-11-11; 8:45 am]

BILLING CODE 4163-18-P